DEPARTMENT OF DEFENSE

Department of the Army

Availability of U.S. Patents for Non-Exclusive, Exclusive, or Partially-Exclusive Licensing

AGENCY: U.S. Army Research Laboratory, DOD.

ACTION: Notice.

SUMMARY: In accordance with 37 CFR 404.6, announcement is made of the availability of the following U.S. patent for non-exclusive, partially exclusive or exclusive licensing. The listed patent has been assigned to the United States of America as represented by the Secretary of the Army, Washington, DC.

This patent covers a wide variety of technical arts including: a device to launch disk projectiles in a variety of orientations, A spin stabilized non-lethal projectile and An apparatus to allow pilots increased visibility through fog and other aerosols.

Under the authority of Section 11(a)(2) of the Federal Technology Transfer Act of 1986 (Public Law 99-502) and Section 207 of Title 35, United States Code, the Department of the Army as represented by the U.S. Army Research Laboratory wish to license the U.S. patent listed below in a non-exclusive, exclusive or partially exclusive manner to any party interested in manufacturing, using, and/or selling devices or processes covered by this patent.

Title: Launcher and Method for Launching Disk-Shaped Projectile in Edge-On and Face-On Orientations.

Inventors: Michael Hollis and John Condon.

Patent Number: 6,024,078.

Issued Date: February 15, 2000.

Title: Method and Apparatus for Increased Visibility through Fog and Ohter Aerosols.

Inventor: Wendell Watkins.

Patent Number: 6,028,624.

Issued Date: February 22, 2000.

Title: Non-Lethal Cartridge with Spin-Stabilized Projectile.

Inventor: David H. Lyon.

Patent Number: 6,041,712.

Issued Date: March 28, 2000.

FOR FURTHER INFORMATION CONTACT: Michael Rausa, Technology Transfer Office, AMSRL-CS-TT, U.S. Army Research Laboratory, Aberdeen Proving Ground, MD 21005-5055 tel: (410) 278-5028; fax: (410) 278-5820

SUPPLEMENTARY INFORMATION: None.

Gregory D. Showalter,
Army Federal Register Liaison Officer.

[FR Doc. 00-10636 Filed 4-27-00; 8:45 am]

BILLING CODE 3710-08-M